SOCIAL SECURITY ADMINISTRATION

20 CFR Part 404

[Docket No. SSA-2007-0066]

RIN 0960-AG57

Revised Medical Criteria for Evaluating Malignant Neoplastic Diseases

AGENCY: Social Security Administration.

ACTION: Final rule; correction.

SUMMARY: This document corrects the preamble to a final rule published in the Federal Register on October 6, 2009, regarding a revision of a medical listing for malignant neoplastic diseases. In that preamble, we cited an incorrect date of publication for the Notice of Proposed Rule Making (NPRM) that had preceded the final rule.

DATES: Effective November 5, 2009.

FOR FURTHER INFORMATION CONTACT: Mark Kuhn, 410-965-1020.

SUPPLEMENTARY INFORMATION:

Correction

In the preamble to the final rule published October 6, 2009 (74 FR 51229) we stated the NPRM (73 FR 22871) was published on April 24, 2008. The NPRM was actually published on April 28, 2008.

In FR Doc. E9-23896 appearing on page 51229 in the Federal Register of Tuesday, October 6, 2009, make the following correction in the SUPPLEMENTARY INFORMATION section. On page 51229, in the third column, in the fifth line of the first paragraph under Background, change “April 24, 2008” to “April 28, 2008.”

Dated: October 16, 2009.
Dean Landis,
Associate Commissioner for Regulations, Social Security Administration.

[FR Doc. E9-25424 Filed 10-21-09; 8:45 am]

BILLING CODE 4191-02-P